DEPARTMENT OF ENERGY

Notice of Availability of the Draft Long-Term Management and Storage of Elemental Mercury Environmental Impact Statement and Notice of Public Hearings

AGENCY: Department of Energy.

ACTION: Notice of availability.

SUMMARY: The Department of Energy (DOE) announces the availability of the Draft Long-Term Management and Storage of Elemental Mercury Environmental Impact Statement (DOE/EIS-0423D, “Draft Mercury Storage EIS” or “Draft EIS”) for public review and comment during a public comment period that extends through March 30, 2010. This Draft EIS has been prepared in accordance with the implementing regulations under the National Environmental Policy Act (NEPA) and evaluates the potential health and environmental effects of storing a projected total of up to 10,000 metric tons (11,000 tons) of elemental mercury. Seven alternative sites across the U.S. are evaluated. DOE invites the public to comment through the several avenues listed under ADDRESSES and SUPPLEMENTARY INFORMATION. The U.S. Environmental Protection Agency (EPA) and the Mesa County (Colorado) Board of Commissioners are cooperating agencies on this Draft EIS.

DATES: The public is invited to submit oral and/or written comments on this Draft EIS during the public comment period, which extends through March 30, 2010. DOE will consider all comments received or postmarked by that date in preparing the Final EIS, expected in fall 2010, and will consider late comments to the extent practicable. DOE will hold public hearings on the dates and at the times and locations listed under SUPPLEMENTARY INFORMATION below.

ADDRESSES: Written comments on the Draft Mercury Storage EIS may be submitted by U.S. mail to the following address. Mr. David Levenstein, EIS Document Manager, U.S. Department of Energy, Draft Mercury Storage EIS Comments, P.O. Box 2612, Germantown, Maryland 20874.

Comments may be submitted electronically via the Mercury Storage EIS Web site at http://www.mercurystorageeis.com, where the Draft EIS can be found, or by faxing toll-free to (877) 274-5462. The Draft EIS is also available on DOE's NEPA Web site at http://www.gc.energy.gov/nepa.

FOR FURTHER INFORMATION CONTACT: For further information about this Draft EIS, please contact Mr. Levenstein at the mailing address or EIS Web site listed above.

For information regarding the DOE NEPA process, please contact: Ms. Carol M. Borgstrom, Director, Office of NEPA Policy and Compliance (GC-54), U. S. Department of Energy, 1000 Independence Avenue, SW., Washington, DC 20585, Telephone: (202) 586-4600, or leave a message at (800) 472-2756.

SUPPLEMENTARY INFORMATION: The Mercury Export Ban Act (the Act) prohibits the export of elemental mercury from the U.S., effective January 1, 2013 (subject to certain essential use exemptions). Section 5 of the Act, Long-Term Storage, directs DOE to designate a facility or facilities for the long-term management and storage of elemental mercury generated within the U.S. and, by January 1, 2013, to have the facility or facilities operational and ready to accept custody of such elemental mercury delivered there.

DOE thus needs to develop a capability for the safe and secure long-term management and storage of elemental mercury generated within the U.S. as required by the Act. To this end, DOE proposes to select one or more existing (including modifications if needed) or new facilities for this purpose. Facilities to be constructed as well as existing or modified facilities must comply with applicable requirements of Section 5(d) of the Act, Management Standards for a Facility, including the requirements of the Solid Waste Disposal Act, as amended by the Resource Conservation and Recovery Act (RCRA). DOE is using the NEPA process to identify and evaluate candidate sites for the facility or facilities. EPA and the Mesa County (Colorado) Board of Commissioners are cooperating agencies on the EIS, which has been prepared pursuant to Council on Environmental Quality NEPA implementing regulations at 40 CFR Parts 1500-1508 and DOE NEPA Implementing Procedures at 10 CFR Part 1021.

DOE issued a Notice of Intent to prepare the EIS on July 2, 2009 (74 FR 31723). Comments received during the subsequent scoping period were considered in preparing the Draft EIS. Based on a structured process described in the Draft EIS, DOE identified seven government and commercial sites as the range of reasonable alternatives to be evaluated in the EIS: DOE Grand Junction Disposal Site, Grand Junction, Colorado; DOE Hanford Site, Richland, Washington; Hawthorne Army Depot, Hawthorne, Nevada; DOE Idaho National Laboratory, Idaho Falls, Idaho; DOE Kansas City Plant, Kansas City, Missouri; DOE Savannah River Site, Aiken, South Carolina; and Waste Control Specialists, LLC, Andrews, Texas. As required under NEPA, the Draft EIS also analyzes a No Action Alternative to serve as a basis for comparison.

DOE's evaluation includes the facilities themselves and their locations, their construction, facility operations, and transportation to the storage facility(ies). Consideration of potential location includes climate, proximity of human populations, and environmental resource areas for each alternative, along with the potential human health and socioeconomic impacts. DOE has identified the Waste Control Specialists, LLC facility as its preferred alternative.

Public Hearings

DOE invites the public to present oral and/or written comments during public hearings on the Draft Mercury Storage EIS. Participants may register at the door to provide oral comments, and speakers will be recognized in order as registered. Speakers may be asked to limit their oral comments to five minutes. Speakers may be given an opportunity to take the floor a second time after all those who wish to speak have been given an opportunity to do so.

During the first hour, the public may review information materials and speak informally with technical staff and DOE representatives. This will be followed by the formal hearing, which will be opened with a brief DOE presentation about the Draft EIS and a review of the hearing procedure. A court reporter will record all oral comments, which later will be publicly available. The dates, times and locations of all hearings are as follows:

Two Rivers Convention Center,

159 Main Street,

Grand Junction, CO 81501,

February 23,

5:30 p.m.-8:30 p.m.

El Capitan,

540 F Street,

Hawthorne, NV 89415,

February 23,

5:30 p.m.-8:30 p.m.

Shilo Inn/O'Callahan's Convention Center,

780 Lindsay Blvd,

Idaho Falls, ID 83402,

February 25,

5:30 p.m.-8:30 p.m.

Courtyard by Marriott,

500 East 105th Street,

Kansas City, MO 64131,

March 2,

5:30 p.m.-8:30 p.m.

Doubletree Hotel Portland—Lloyd Center,

1000 NE Multnomah Street,

Portland, OR 97232, March 2,

5:30 p.m.-8:30 p.m.

Red Lion Hotel Richland Hanford House,

802 George Washington Way,

Richland, WA 99352,

March 3,

5:30 p.m.-8:30 p.m.

North Augusta Municipal Center,

100 Georgia Avenue,

North Augusta, SC 29841,

March 4,

5:30 p.m.-8:30 p.m.

Eunice Community Center

1115 Avenue I

Eunice, NM 88231

March 8

5:30 p.m.-8:30 p.m.

James Roberts Civic Center,

855 E. Broadway,

Andrews, TX 79714,

March 9,

5:30 p.m.-8:30 p.m.

Public Reading Rooms

Copies of the Draft EIS and supporting technical reports are available for public review at the locations listed below:

Colorado

Mesa County Library,

530 Grand Avenue,

Grand Junction, CO 81502-5019,

(970) 243-4442.

U.S. Department of Energy,

Office of Legacy Management,

2597 B ¾ Road,

Grand Junction, CO 81503,

(970) 248-6089.

District of Columbia

U.S. Department of Energy,

Freedom of Information Act Public Reading Room,

1000 Independence Avenue, SW.,

Room 1G-033,

Washington, DC 20585,

(202) 586-5955.

Georgia

Augusta State University,

Reese Library,

2500 Walton Way,

Augusta, GA 30904,

(706) 737-1745.

Savannah State University,

Asa H. Gordon Library,

2200 Tompkins Road,

Savannah, GA 31404,

(912) 356-2183.

Idaho

U.S. Department of Energy,

Public Reading Room,

1776 Science Center Drive,

Idaho Falls, ID 83402,

(208) 526-0833.

Missouri

Mid-Continent Public Library,

Blue Ridge Branch,

9253 Blue Ridge Boulevard,

Kansas City, MO 64138,

(816) 761-3382.

Nevada

Mineral County Library,

First & “A” Street,

Hawthorne, NV 89415,

(775) 945-2778.

New Mexico

Eunice Public Library,

1039 10th Street,

Eunice, NM 88231,

(575) 394-2336.

Oregon

Portland State University,

Government Information,

Branford Price Millar Library,

1875 SW Park Avenue,

Portland, OR 97201,

(503) 725-5874.

South Carolina

University of South Carolina-Aiken,

Gregg-Graniteville Library,

471 University Parkway,

Aiken, SC 29801,

(803) 641-3320.

South Carolina State Library,

1500 Senate Street,

Columbia, SC 29211,

(803) 734-8026.

Texas

Andrews County Library,

109 NW 1st Street,

Andrews, TX 79714,

(432) 523-9819.

Washington

U.S. Department of Energy,

Public Reading Room,

Consolidated Information Center,

2770 University Drive,

Room 101L,

Richland, WA 99352,

(509) 372-7443.

University of Washington,

Suzzallo-Allen Library,

Government Publications Division,

Seattle, WA 98195,

(206) 543-1937.

Gonzaga University,

Foley Center Library,

101-L East 502 Boone,

Spokane, WA 99258,

(509) 313-5931.

Next Steps

Following the end of the public comment period on the Draft EIS described above, DOE will consider the environmental impact analysis presented in the Final EIS, along with other information in making its decision(s) related to the management and storage of elemental mercury generated within the U.S.

Issued in Washington, DC on January 25, 2010.
William M. Levitan,
Director, Office of Environmental Compliance, Office of Environmental Management.

[FR Doc. 2010-1826 Filed 1-28-10; 8:45 am]

BILLING CODE 6450-01-P